DEPARTMENT OF ENERGY

Federal Energy Regulatory Commission

[Docket No. RP04-37-000]

National Fuel Gas Supply Corporation; Notice of Tariff Filing

November 5, 2003.

Take notice that on October 31, 2003, National Fuel Gas Supply Corporation (National) tendered for filing has part of its FERC Gas Tariff, Fourth Revised Volume No. 1, Fifty-Eighth Revised Sheet No. 9, with an effective date of November 1, 2003.

National states that Article II, sections 1 and 2 of the settlement provide that National will recalculate the maximum Interruptible Gathering (IG) rate semi-annually and monthly. Further, section 2, of Article II provides that the IG rate will be the recalculated monthly rate, commencing on the first day of the following month, if the result is an IG rate more than 2 cents above or below the IG rate as calculated under section 1 of Article II. National states that the recalculation produced as IG rate of $0.43 per dth. In addition, Article II, Section 1 states that any overruns of the Firm Gathering service provided by National shall be priced at the maximum IG rate.

National states that copies of this filing have been served upon all customers on the service list and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00190 Filed 11-12-03; 8:45 am]

BILLING CODE 6717-01-P